DEPARTMENT OF COMMERCE

International Trade Administration

[A-523-815]

Certain Aluminum Foil From the Sultanate of Oman: Amended Final Results of Antidumping Duty Administrative Review; 2022-2023

AGENCY: Enforcement and Compliance, International Trade Administration, Department of Commerce.

SUMMARY: The U.S. Department of Commerce (Commerce) is amending the final results of the administrative review of the antidumping duty (AD) order on certain aluminum foil (aluminum foil) from the Sultanate of Oman (Oman) to correct certain ministerial errors. The period of review (POR) is November 1, 2022, through October 31, 2023.

DATES: Applicable December 22, 2025.

FOR FURTHER INFORMATION CONTACT: Alexander Cipolla, AD/CVD Operations, Office III, Enforcement and Compliance, International Trade Administration, U.S. Department of Commerce, 1401 Constitution Avenue NW, Washington, DC 20230; telephone: (202) 482-4956.

SUPPLEMENTARY INFORMATION:

Background

On September 12, 2025, Commerce published the Final Results of the administrative review of the AD order on aluminum foil from Oman in the Federal Register.¹ On September 15, 2025, we received a timely filed allegation of ministerial errors from Oman Aluminium Rolling Company SPC (OARC), the mandatory respondent in this administrative review.² On September 22, 2025, the Aluminum Association Trade Enforcement Working Group and its individual members (collectively, the petitioners) submitted timely comments in rebuttal to OARC's Ministerial Error Comments.³ We are amending the Final Results to correct certain ministerial errors raised by OARC.⁴

¹ See Certain Aluminum Foil from the Sultanate of Oman: Final Results of Antidumping Duty Administrative Review; 2022-2023, 90 FR 44162 (September 12, 2025) (Final Results).

² See OARC's Letter, “Ministerial Error Comments,” dated September 15, 2025 (OARC's Ministerial Error Comments).

³ See Petitioners' Letter, “Petitioners' Response to OARC's Ministerial Error Allegations,” dated September 22, 2025 (Petitioners' Rebuttal Comments).

⁴ See Memorandum, “Analysis of Ministerial Error Allegations,” dated concurrently with this notice (Ministerial Error Memorandum).

Legal Framework

Section 751(h) of the Tariff Act of 1930, as amended (the Act), defines a “ministerial error” as including “errors in addition, subtraction, or other arithmetic function, clerical errors resulting from inaccurate copying, duplication, or the like, and any other unintentional error which the administering authority considers ministerial.” ⁵ With respect to final results of administrative reviews, 19 CFR 351.224(e) provides that Commerce “will analyze any comments received and, if appropriate, correct any . . . ministerial error by amending the final results of review. . .”

⁵ See 19 CFR 351.224(f).

Ministerial Errors

In its ministerial error comments, OARC alleged that Commerce made ministerial errors in its: (1) final calculation of OARC's dumping margin by over-applying certain international freight expenses; (2) by failing to account for the net quantities (NETQTYU) of OARC's U.S. sales during the POR; (3) by failing to ensure that the treatment of OARC's billing adjustments in the U.S. market was consistent with the gross unit prices; (4) by incorrectly assigning the importer field for the assessment calculation; (5) by applying the highest-value partial adverse facts available (AFA) adjustment to OARC's reported U.S. duty (USDUTYU) field; and (6) by failing to cap any supposed freight revenues by the amount associated with freight expenses.⁶ In its rebuttal comments, the petitioners argued that (1) OARC's ministerial error allegation concerning net quantity was untimely alleged; (2) Commerce's application of partial AFA to section 232 expenses was clearly identified and explained by Commerce, so it cannot be considered a ministerial error pursuant to section 735(e) of the Act and 19 CFR 351.224(f); and (3) Commerce made a deliberate methodological choice to apply partial AFA to OARC's freight expenses, and there is no indication to Commerce intended to calculate a freight revenue offset.

⁶ See OARC's Letter, “Ministerial Error Comments,” dated September 15, 2025 (OARC's Ministerial Error Comments).

We agree with OARC that we made two ministerial errors regarding its international freight expenses and billing adjustments in the Final Results, pursuant to section 751(h) of the Act and 19 CFR 351.224(f), and have amended our calculations to correct these errors.⁷ Regarding OARC's allegations concerning net quantity and the importer field, we find that OARC failed to identify the error during the time period specified by our regulations. Therefore, consistent with our regulations, we find that OARC's submission, as it relates to NETQTYU and the importer field, constitutes an untimely ministerial error allegation. However, with regard to the importer field, we have exercised our discretion to correct the error identified, as correcting the error will allow for more accurate collection of duties. Finally, we disagree with OARC that we made ministerial errors in the Final Results concerning OARC's freight revenue capping and section 232 expenses, and thus, have not amended our calculations with respect to these allegations.

⁷ See Ministerial Error Memorandum at 3 and 4; see also Memorandum, “Amended Final Results Margin Calculation for Oman Aluminium Rolling Company,” dated concurrently with this notice.

For a complete discussion of the ministerial error allegations, as well as Commerce's analysis, see the accompanying Ministerial Error Memorandum.⁸ The Ministerial Error Memorandum is a public document and is on file electronically via ACCESS. ACCESS is available to registered users at https://access.trade.gov.

⁸ See Ministerial Error Memorandum.

Amended Final Results of Review

As a result of correcting the ministerial errors described above, we determine the following estimated weighted-average dumping margin exists for the period November 3, 2022, through April 30, 2024:

Exporter/producer | Weighted-average dumping margin (percent)
Oman Aluminium Rolling Company | 42.13

Disclosure

We intend to disclose the calculations performed in connection with these amended final results of review to parties in this review within five days of the date of publication of this notice in the Federal Register, in accordance with 19 CFR 351.224(b).

Assessment Rates

Normally Commerce would issue assessment instructions to U.S. Customs and Border Protection (CBP) no earlier than 35 days after the date of publication of the amended final results of this review in the Federal Register. However, in this case, a timely summons and complaint have been filed at the U.S. Court of International Trade, and a statutory injunction is in place. Therefore, we will not issue assessment instructions until the injunction has lifted. When the injunction lifts such that we can issue assessment instructions, and where the respondent reported reliable entered values, we will calculate importer- (or customer-) specific ad valorem rates by aggregating the dumping margins calculated for all U.S. sales to each importer (or customer) and dividing this amount by the total entered value of the sales to each importer (or customer).⁹ Where Commerce calculated a weighted-average dumping margin by dividing the total amount of dumping for reviewed sales to that party by the total sales quantity associated with those transactions, Commerce will direct CBP to assess importer- (or customer-) specific assessment rates based on the resulting per-unit rates.¹⁰ Where an importer- (or customer-) specific ad valorem or per-unit rate is greater than de minimis (i.e., 0.50 percent), Commerce will instruct CBP to collect the appropriate duties at the time of liquidation.¹¹ Where an importer- (or customer-) specific ad valorem or per-unit rate is zero or de minimis, Commerce will instruct CBP to liquidate appropriate entries without regard to antidumping duties.¹²

⁹ See 19 CFR 351.212(b)(1).

¹⁰ Id.

¹¹ Id.

¹² See 19 CFR 351.106(c)(2).

Consistent with Commerce's assessment practice, for entries of subject merchandise during the POR produced by OARC for which the producer did not know that its merchandise was destined for the United States, we will instruct CBP to liquidate unreviewed entries at the all-others rate if there is no rate for the intermediate company(ies) involved in the transaction.¹³

¹³ For a full discussion of this practice, see Antidumping and Countervailing Duty Proceedings: Assessment of Antidumping Duties, 68 FR 23954 (May 6, 2003).

Cash Deposit Requirements

The following amended cash deposit requirements will be effective for all shipments of the subject merchandise entered, or withdrawn from warehouse, for consumption on or after September 12, 2025, the publication date of the Final Results of this administrative review, as provided by section 751(a)(2)(C) of the Act: (1) the amended cash deposit rate for the company listed above will be equal to the weighted-average dumping margin established in the amended final results of this administrative review; (2) for previously reviewed or investigated companies not participating in this review, the cash deposit rate will continue to be the company-specific rate published for the most recently completed segment of this proceeding in which the producer or exporter participated; (3) if the exporter is not a firm covered in this review, a prior review, or the original investigation but the producer is, the cash deposit rate will be the rate established for the most recently completed segment of this proceeding for the producer of the subject merchandise; and (4) the cash deposit rate for all other producers or exporters will continue to be the all-others rate established in the less-than-fair-value investigation (i.e., 3.89 percent).¹⁴ These cash deposit requirements, when imposed, shall remain in effect until further notice.

¹⁴ See Certain Aluminum Foil from the Sultanate of Oman: Final Affirmative Determination of Sales at Less-Than-Fair-Value, 86 FR 52876 (September 23, 2021).

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of antidumping duties and/or countervailing duties occurred and the subsequent assessment of double antidumping duties and/or an increase in the amount of antidumping duties by the amount of the countervailing duties.

Administrative Protective Order

This notice also serves as a reminder to parties subject to an administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these amended final results in accordance with sections 751(h) and 777(i) of the Act and 19 CFR 351.224(e).

Dated: December 17, 2025.
Christopher Abbott,
Deputy Assistant Secretary for Policy and Negotiations, performing the non-exclusive functions and duties of the Assistant Secretary for Enforcement and Compliance.

[FR Doc. 2025-23628 Filed 12-19-25; 8:45 am]

BILLING CODE 3510-DS-P